SMALL BUSINESS ADMINISTRATION

[Disaster Declaration #14495 and #14496]

South Carolina Disaster Number SC-00031

AGENCY: U.S. Small Business Administration.

ACTION: Amendment 7.

SUMMARY: This is an amendment of the Presidential declaration of a major disaster for the State of SOUTH CAROLINA (FEMA-4241-DR), dated 10/05/2015.

Incident: Severe Storms and Flooding.

Incident Period: 10/01/2015 through 10/23/2015.

Effective Date: 10/27/2015.

Physical Loan Application Deadline Date: 12/04/2015.

EIDL Loan Application Deadline Date: 07/05/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of South Carolina, dated 10/05/2015 is hereby amended to include the following areas as adversely affected by the disaster:

Primary Counties: (Physical Damage and Economic Injury Loans): Greenville, Spartanburg.

Contiguous Counties: (Economic Injury Loans Only):

South Carolina: Anderson, Cherokee, Pickens.

North Carolina: Henderson, Polk, Rutherford, Transylvania.

All other information in the original declaration remains unchanged.

(Catalog of Federal Domestic Assistance Numbers 59002 and 59008)

James E. Rivera,
Associate Administrator for Disaster Assistance.

[FR Doc. 2015-28046 Filed 11-3-15; 8:45 am]

BILLING CODE 8025-01-P